DEPARTMENT OF LABOR

Employment and Training Administration

[TA-W-62,659]

Richloom Home Fashions, Division of Richloom Fabrics Corporation, Clinton, SC; Notice of Negative Determination on Reconsideration

On March 27, 2008, the Department issued an Affirmative Determination Regarding Application for Reconsideration for the workers and former workers of the subject firm. The notice was published in the Federal Register on April 24, 2008 (73 FR 22166).

The initial investigation resulted in a negative determination based on the finding that worker group does not produce an article within the meaning of section 222 for the Trade Act of 1974.

In the request for reconsideration the petitioner stated that workers of the Sample Department of the subject firm produce samples of window treatments and bed coverings and requested that the Department conduct further investigation of the Sample Department.

On reconsideration, the Department contacted a company official and requested additional information regarding the production of samples of window treatments and bed coverings. The investigation revealed that workers of the Sample Department, Richloom Home Fashions in Clinton, South Carolina manufacture samples of window treatments and bed coverings. However, the investigation also revealed that only one worker was separated from the Sample Department in 2007 and there was no threat of future separations.

The subject company did not separate or threaten to separate a significant number or proportion of workers, as required by section 222 of the Trade Act of 1974. Significant number or proportion of the workers in a firm or appropriate subdivision means at least three workers in a workforce of fewer than 50 workers, five percent of the workers in a workforce of over 50 workers, or at least 50 workers. As employment levels at the subject facility did not decline during the relevant time period and there was no threat of separations during the relevant period, criterion (1) has not been met.

Conclusion

After reconsideration, I affirm the original notice of negative determination of eligibility to apply for worker adjustment assistance for workers and former workers of Richloom Home Fashions, division of Richloom Fabrics Corporation, Clinton, South Carolina.

Signed at Washington, DC this 28th day of April, 2008.
Elliott S. Kushner,
Certifying Officer, Division of Trade Adjustment Assistance.

[FR Doc. E8-10030 Filed 5-6-08; 8:45 am]

BILLING CODE 4510-FN-P